DEPARTMENT OF THE INTERIOR

Bureau of Indian Affairs

Indian Gaming

AGENCY: Bureau of Indian Affairs, Interior.

ACTION: Notice of approved Tribal-State Compacts.

SUMMARY: Pursuant to Section 11 of the Indian Gaming Regulatory Act (IGRA), Pub. L. 100-497, 25 U.S.C. 2710, the Secretary of the Interior shall publish, in the Federal Register, notice of approved Tribal-State Compacts for the purpose of engaging in Class III gaming activities on Indian lands. The Assistant Secretary—Indian Affairs, Department of the Interior, through his delegated authority on May 5, 2000, has approved the following Tribal-State Compacts between the State of California and California Indian Tribes:

Agua Caliente Band of Cahuilla Indians of the Agua Caliente Indian Reservation,

Alturas Indian Rancheria,

Berry Creek Rancheria of Maidu Indians of California,

Blue Lake Rancheria,

Buena Vista Rancheria of Me-Wuk Indians of California,

Bear River Band of Rohnerville Rancheria,

Barona Group of Capitan Grande Band of Mission Indians of the Barona Reservation,

Big Sandy Rancheria of Mono Indians of California,

Big Valley Band of Pomo Indians of the Big Valley Rancheria,

Paiute-Shoshone Indians of the Bishop Community of the Bishop Colony,

Cabazon Band of Cahuilla Mission Indians of the Cabazon Reservation,

Cahto Indian Tribe of Laytonville Rancheria,

Cahuilla Band of Mission Indians of the Cahuilla Reservation,

Campo Band of Diegueno Mission Indians of the Campo Indian Reservation,

Chemehuevi Indian Tribe of the Chemehuevi Reservation,

Chicken Ranch Rancheria of the Me-Wuk Indians of California,

Resighini Rancheria (formerly known as the Coast Indian Community of

Yurok Indians of the Resighini Rancheria),

Cachil DeHe Band of Wintun Indians of the Colusa Indian Community of the Colusa Rancheria,

Cuyapaipe Community of Diegueno Mission Indians of the Cuyapaipe Reservation,

Dry Creek Rancheria of Pomo Indians of California,

Elk Valley Rancheria,

Elem Indian Colony of Pomo Indians of the Sulphur Bank Rancheria,

Hoopa Valley Tribe,

Hopland Band of Pomo Indians of the Hopland Rancheria,

Jackson Rancheria of Me-Wuk Indians of California,

Jamul Indian Village of California,

La Jolla Band of Luiseno Mission Indians of the La Jolla Reservation,

Manchester Band of Pomo Indians of the Manchester-Point Area Rancheria,

Manzanita Band of the Diegueno Mission Indians of the Manzanita Reservation,

Middletown Rancheria of Pomo Indians of California,

Mooretown Rancheria of Maidu Indians of California,

Morongo Band of Cahuilla Mission Indians of the Morongo Reservation,

Pala Band of the Luiseno Mission Indians of the Pala Reservation,

Paskenta Band of Nomlaki Indians of California,

Pechenga Band of Luiseno Mission Indians of the Pechenga Reservation,

Picayune Rancheria of Chukchansi Indians of California,

Pit River Tribe, California,

Quechan Tribe of the Fort Yuma Indian Reservation,

Redding Rancheria,

Rincon Band of Luiseno Mission Indians of the Rincon Reservation,

Robinson Rancheria of Pomo Indians of California,

Rumsey Indian Rancheria of Wintun Indians of California,

San Manual Band of Serrano Mission Indians of the San Manual Reservation,

San Pasqual Band of Diegueno Mission Indians of California,

Santa Rosa Band of Cahuilla Mission Indians of the Santa Rosa Reservation,

Santa Ynez Band of Chumash Mission Indians of the Santa Ynez Reservation,

Shingle Springs Band of Miwok Indians, Shingle Springs Rancheria (Verona Tract),

Sherwood Valley Rancheria of Pomo Indians of California,

Smith River Rancheria,

Soboba Band of Luiseno Mission Indians of the Soboba Reservation,

Susanville Indian Rancheria,

Sycuan Band of Diegueno Mission Indians of California,

Table Mountain Rancheria of California,

Cher-Ae Heights Indian Community of the Trinidad Rancheria,

Tuolumne Band of Me-Wuk Indians of the Tuolumne Rancheria of California,

Twenty-Nine Palms Band of Luiseno Mission Indians of California,

Viejas (Baron Long) Group of Capitan Grande Band of Mission Indians of the Viejas Reservation,

Tule River Indian Tribe of the Tule River Reservation,

United Auburn Indian Community of the Auburn Rancheria of California.

DATES: This action is effective May 16, 2000.

FOR FURTHER INFORMATION CONTACT: George T. Skibine, Director, Office of Indian Gaming Management, Bureau of Indian Affairs, Washington, DC 20240, (202) 219-4066.

Dated: May 11, 2000.
Kevin Gover,
Assistant Secretary—Indian Affairs.

[FR Doc. 00-12322 Filed 5-15-00; 8:45 am]

BILLING CODE 4310-02-P